NUCLEAR REGULATORY COMMISSION

[NRC-2019-0040]

Biweekly Notice: Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from January 15, 2019 to January 28, 2019. The last biweekly notice was published on January 31, 2019.

DATES: Comments must be filed by March 14, 2019. A request for a hearing must be filed by April 15, 2019. Comments received after this date will be considered if it is practical to do so, but the Commission is able to ensure consideration only for comments received before this date.

ADDRESSES: You may submit comments by any of the following methods:

• Federal Rulemaking Website: Go to http://www.regulations.gov and search for Docket ID NRC-2019-0040. Address questions about Docket IDs in Regulations.gov to Krupskaya Castellon; telephone: 301-287-9221; email: Krupskaya.Castellon@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington DC 20555-0001; telephone: 301-415-1384, email: Janet.Burkhardt@nrc.gov.

SUPPLEMENTARY INFORMATION:

I. Obtaining Information and Submitting Comments

A. Obtaining Information

Please refer to Docket ID NRC-2019-0040, facility name, unit number(s), plant docket number, application date, and subject when contacting the NRC about the availability of information for this action. You may obtain publicly-available information related to this action by any of the following methods:

• Federal Rulemaking Website: Go to http://www.regulations.gov and search for Docket ID NRC-2019-0040.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0040, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing).

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3 (PVNGS), Maricopa County, Arizona

Date of amendment request: December 27, 2018. A publicly-available version is in ADAMS under Accession No. ML18361A845.

Description of amendment request: The amendments would modify the Technical Specification (TS) requirements in Section 1.3 and Section 3.0 regarding limiting condition for operation (LCO) and surveillance requirement (SR) usage for PVNGS. These changes are consistent with NRC-approved Technical Specifications Task Force (TSTF) Traveler TSTF-529, “Clarify Use and Application Rules,” Revision 4.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to Section 1.3 and LCO 3.0.4 have no effect on the requirement for systems to be Operable and have no effect on the application of TS actions. The proposed change to SR 3.0.3 states that the allowance may only be used when there is a reasonable expectation the surveillance will be met when performed. Since the proposed change does not significantly affect system Operability, the proposed change, will have no significant effect on the initiating events for accidents previously evaluated and will have no significant effect on the ability of the systems to mitigate accidents previously evaluated.

Therefore, it is concluded that this change does not involve a significant increase in the probability or consequences of an accident previously evaluated.

2. Does the proposed amendment create the possibility of a new or different kind of accident from any accident previously evaluated?

Response: No.

The proposed changes to the TS usage rules do not affect the design or function of any plant systems. The proposed change does not change the Operability requirements for plant systems or the actions taken when plant systems are not operable.

Therefore, it is concluded that this change does not create the possibility of a new or different kind of accident from any accident previously evaluated.

3. Does the proposed amendment involve a significant reduction in a margin of safety?

Response: No.

The proposed change clarifies the application of Section 1.3 and LCO 3.0.4 and does not result in changes in plant operation. SR 3.0.3 is revised to allow application of SR 3.0.3 when an SR has not been previously performed and there is reasonable expectation that the SR will be met when performed. This expands the use of SR 3.0.3 while ensuring the affected system is capable of performing its safety function. As a result, plant safety is either improved or unaffected.

Therefore, it is concluded that this change does not involve a significant reduction in a margin of safety.

The NRC staff has reviewed the licensee's analysis and, based on that review, it appears that the three standards of 10 CFR 50.92(c) are satisfied. Therefore, the NRC staff proposes to determine that the amendment request involves no significant hazards consideration.

Attorney for licensee: Michael G. Green, Associate General Counsel, Nuclear and Environmental, Pinnacle West Capital Corporation, P.O. Box 52034, Mail Station 7602, Phoenix, Arizona 85072-2034.

NRC Branch Chief: Robert J. Pascarelli.

Duke Energy Florida, LLC (DEF), Docket No. 50-302, Crystal River Unit 3 Nuclear Generating Plant (CR-3), Citrus County, Florida

Date of amendment request: January 16, 2019. A publicly-available version is in ADAMS under Accession No. ML19016A496.

Description of amendment request: The amendment would revise the CR-3 Independent Spent Fuel Storage Installation (ISFSI)-Only Emergency Plan (IOEP). The amendment would make several editorial changes and revise the IOEP to replace the Emergency Response Coordinator position.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would modify the CR-3 facility operating license by revising the emergency plan. CR-3 has permanently ceased operation and is permanently defueled.

Occurrence of postulated accidents associated with spent fuel stored in a spent fuel pool is no longer credible in a spent fuel pool devoid of such fuel. The UFSAR [Updated Final Safety Analysis Report] for NUHOMS Certificate of Compliance (CoC) 1004 states most accidents are not credible and the accident analysis demonstrates that none of the hypothetical accidents analyzed has any consequential effect on the public. Many of the analyzed events, like a fire at the ISFSI, have no radiological release. The proposed amendment has no effect on the capability of any plant or ISFSI System, Structure, or Components (SSC) to perform its design function. The proposed amendment would not increase the likelihood of the malfunction of any ISFSI SSC as there are no hardware or software modifications associated with this change. The proposed amendment would have no effect on any of the previously evaluated accidents in the ISFSI UFSAR for CoC 1004.

The specific non-editorial changes of the emergency plan revision only reassign the medical and fire response responsibilities from one individual title, the Emergency Response Coordinator, to plant specific personnel.

A medical emergency may be the result of some event within the plant or ISFSI protected area. However, the qualification or response time of the individuals providing basic first aid or contacting offsite responders for additional medical assistance would have no impact on any accident or event scenario and will not change the bounding accident or event consequences to the onsite personnel or the general public.

Likewise, a fire emergency may be the result of an onsite event, but a calculation performed by DEF demonstrates that the design basis fire analyzed in the UFSAR for CoC 1004 is bounding and would not create a release. The CR-3 Fire Protection Program allows for plant personnel to attempt to put out small fires with fire extinguishers but requires offsite fire response organization to be called for assistance. The person who makes the call for this assistance does not need to be highly trained in firefighting techniques, and being able to make the call more rapidly can only be considered a beneficial change.

The proposed amendment would not increase the likelihood of the malfunction of any ISFSI SSC. The proposed amendment would have no effect on any of the previously evaluated accidents in the UFSAR for CoC 1004.

2. Does the proposed change create the possibility of a new or different kind of accident from any accident previously evaluated?

Response: No.

The proposed amendment constitutes a revision of the emergency planning function commensurate with the ongoing and anticipated reduction in staff at CR-3.

The proposed amendment does not involve a physical alteration of the ISFSI. No new or different types of equipment will be installed and there are no physical modifications to existing equipment as a result of the proposed amendment. Similarly, the proposed amendment would not physically change any SSC utilized in the mitigation of any postulated accidents (such as fire protection equipment). Thus, no new initiators or precursors of a new or different kind of accident are created. Furthermore, the proposed amendment does not create the possibility of a new failure mode associated with any equipment or personnel failures. The credible events for the ISFSI remain unchanged and the resultant consequences are unchanged.

Therefore, the proposed amendment does not create the possibility of a new or different kind of accident from any previously evaluated.

3. Does the proposed amendment involve a significant reduction in a margin of safety?

Response: No.

Because the 10 CFR part 50 license for CR-3 no longer authorizes operation of the reactor or emplacement or retention of fuel into the reactor vessel, as specified in 10 CFR 50.82(a)(2), the occurrence of postulated accidents associated with reactor operation is no longer credible. With all spent nuclear fuel transferred out of wet storage from the spent fuel pools and placed in dry storage within the ISFSI, a fuel handling accident is no longer credible. The accident analyses presented in the ISFSI UFSAR for CoC 1004 demonstrates that there are no accidents or events that will result in any type of significant release, with most accidents having no radiological release.

The proposed amendment does not involve a change in the ISFSI's design, configuration, or operation. The proposed amendment does not affect either the way in which the ISFSI structures, systems, and components perform their safety function or their design margins.

Because there is no change to the physical design of the ISFSI, there is no change to these margins. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, 550 South Tryon Street, Charlotte, North Carolina 28202.

NRC Branch Chief: Bruce A. Watson.

Duke Energy Progress, LLC, Docket No. 50-400, Shearon Harris Nuclear Power Plant (HNP), Unit 1, Wake and Chatham Counties, North Carolina

Date of amendment request: July 30, 2018, as supplemented by letters dated September 24, 2018, and December 27, 2018. Publicly-available versions are in ADAMS under Accession Nos. ML18211A546, ML18267A102, and ML18362A415, respectively.

Description of amendment request: The amendment would revise Technical Specification (TS) Table 2.2-1, “Reactor Trip System Instrumentation Trip Setpoints,” and TS Table 3.3-4, “Engineered Safety Features Actuation System Instrumentation Trip Setpoints,” to optimize safety analysis margin in the Final Safety Analysis Report (FSAR) Chapter 15 transient analyses. It would also remove the high power range high negative neutron flux rate trip from the TSs.

Basis for proposed no significant hazards consideration determination: As required by 10 CFR 50.91(a), the licensee has provided its analysis of the issue of no significant hazards consideration, which is presented below:

1. Does the proposed change involve a significant increase in the probability or consequences of an accident previously evaluated?

Response: No.

The Reactor Trip System (RTS) and Engineered Safety Feature Actuation System (ESFAS) provide plant protection and are part of the accident mitigation response. The RTS and ESFAS functions do not themselves act as a precursor or an initiator for any transient or design basis accident. Therefore, the proposed change does not significantly increase the probability of any accident previously evaluated.

The proposed change does not alter the design assumptions, conditions, or configuration of the facility. The structural and functional integrity of the RTS and ESFAS, or any other plant system, is unaffected. The proposed change does not alter or prevent the ability of structures, systems, and components from performing their intended function to mitigate the consequences of an initiating event within the assumed acceptance limits. The proposed changes will not alter any assumptions or change any mitigation actions in the radiological consequence evaluations in the FSAR.

The proposed changes do not adversely affect accident initiators or precursors nor alter the design assumptions, conditions, or configuration of the facility or the manner in which the plant is operated and maintained. The proposed changes do not alter or prevent the ability of structures, systems, and components from performing their intended function to mitigate the consequences of an initiating event within the assumed acceptance limits. The proposed changes do not affect the source term, containment isolation, or radiological release assumptions used in evaluating the radiological consequences of any accident previously evaluated. The proposed changes are consistent with safety analysis assumptions and resultant consequences. The methods used to calculate the parameter uncertainties and the setpoints remain unchanged. Changes to the setpoints are primarily due to updated component uncertainty values and harvesting excess calculational margin (CM) in the setpoint total allowance (TA).

The removal of the high power range negative neutron flux rate trip function from the HNP Technical Specifications does not involve a significant increase in the probability or consequences of accidents resulting from dropped RCCA [rod cluster control assembly] events analyzed utilizing the NRC-approved Duke Energy methodology for FSAR Chapter 15 transient analyses, DPC-NE-3009, “FSAR/UFSAR Chapter 15 Transient Analysis Methodology.” As demonstrated in the response to SRXB RAI #2, the results of the dropped rod analysis without crediting the high power range negative neutron flux rate trip meet the applicable Chapter 15 accident analysis acceptance criteria. The safety functions of other safety-related systems and components, which are related to mitigation of these events, have not been altered by this change. All other reactor trip system protection functions are not impacted by the deletion of the trip function. The dropped RCCA accident analysis does not rely on the high power range negative neutron flux rate trip to safely shut down the plant. The safety analysis of the plant is unaffected by the proposed change. Since the safety analysis is unaffected, the calculated radiological releases associated with the analysis are not affected.

Therefore, the proposed change does not involve a significant increase in the probability or consequences of an accident previously evaluated.

2. Does the proposed change create the possibility of a new or different kind of accident from any previously evaluated?

Response: No.

There are no hardware changes nor are there any changes in the method by which any safety-related plant system performs its safety function. The proposed changes will not affect the normal method of plant operation. No performance requirements will be affected or eliminated. The proposed changes will not result in physical alteration to any plant system nor will there be any change in the method by which any safety-related plant system performs its safety function. The proposed changes do not alter assumptions made in the safety analysis but ensures that the instruments behave as assumed in the accident analysis. The proposed change is consistent with the safety analysis assumptions. The methods used to calculate the parameter uncertainties and the setpoints remain unchanged. Changes to the setpoints are primarily due to updated component uncertainty values and harvesting excess CM in the setpoint TA.

No new accident scenarios, transient precursors, failure mechanisms, or limiting single failures are introduced as a result of these changes. There will be no adverse effect or challenges imposed on any safety-related system as a result of these changes.

The proposed change does not adversely alter the design assumptions, conditions, or configuration of the facility or the manner in which the plant is operated. No new accident scenarios, failure mechanisms, or limiting single failures are introduced as a result of deleting the high power range negative neutron flux rate trip function. The proposed change does not challenge the performance or integrity of any safety-related systems or components.

Therefore, the proposed change does not create the possibility of a new or different kind of accident from any accident previously evaluated.

3. Does the proposed change involve a significant reduction in a margin of safety?

Response: No.

The proposed changes do not alter the manner in which safety limits, limiting safety system settings or limiting conditions for operation are determined. The safety analysis acceptance criteria are not negatively impacted by these changes. Redundant RTS and ESFAS trains are maintained, and diversity with regard to the signals that provide reactor trip and engineered safety features actuation is also maintained. All signals credited as primary or secondary, and all operator actions credited in the accident analyses will remain the same. The proposed changes will not result in plant operation in a configuration outside the design basis. The methods used to calculate the parameter uncertainties and the setpoints remain unchanged. Changes to the setpoints are primarily due to updated component uncertainty values and harvesting excess CM in the setpoint TA.

The margin of safety associated with the acceptance criteria of any accident is unchanged. It has been demonstrated that the high power range negative neutron flux rate trip function can be deleted by the NRC-approved methodology described in WCAP-11394-P-A. In utilizing the NRC-approved Duke Energy methodology for FSAR Chapter 15 transient analyses, DPC-NE-3009, it has been demonstrated that the removal of the high power range negative neutron flux rate trip function does not result in exceeding the limits on DNB [departure from nucleate boiling] for dropped RCCA events. The proposed change will have no effect on the availability, operability, or performance of safety-related systems and components.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David Cummings, Associate General Counsel, Duke Energy Corporation, 550 South Tryon St., M/C DEC45A, Charlotte, NC 28202.

NRC Branch Chief: Undine Shoop.

Southern Nuclear Operating Company, Inc. (SNC), Docket Nos. 52-025 and 52-026, Vogtle Electric Generating Plant (VEGP), Units 3 and 4, Burke County, Georgia

Date of amendment request: December 13, 2018. A publicly-available version is in ADAMS under Accession No. ML18347B484.

Description of amendment request: The requested amendment proposes changes to Updated Final Safety Analysis Report (UFSAR) Tier 2 information and involves related changes to plant-specific Tier 1 information with corresponding changes to the associated combined license (COL) Appendix C information. Specifically, the amendment proposes changes that revise the COL and licensing basis documents to identify passive residual heat removal (PRHR) heat exchanger (HX) inlet isolation valve status and PRHR HX control valve status as requiring main control room (MCR) and remote shutdown workstation (RSW) display and alert indications. Additionally, a change is proposed to remove duplicate Tier 2 information from a document that is incorporated by reference into the UFSAR. The licensee is submitting technical specification base changes to reflect the changes in the license amendment request.

SNC has also requested an exemption from the provisions of 10 CFR part 52, Appendix D, Section III.B, “Design Certification Rule for the AP1000 Design, Scope and Contents,” to allow a departure from the elements of the certification information in Tier 1 of the generic Design Control Document.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes would revise the Updated Final Safety Analysis Report (UFSAR) Tier 2 information, which involves a change to the COL Appendix C and corresponding plant-specific Tier 1 information in Tables 2.5.2-5 and 2.5.4-1 to identify passive residual heat removal (PRHR) heat exchanger (HX) inlet isolation valve status and PRHR HX control valve status as requiring main control room (MCR) and remote shutdown workstation (RSW) display and alert indications. Corresponding changes are made to remove reliance upon the use of PRHR HX outlet temperature (RCS-TE161) as the diverse measurement to PRHR HX flow, and to make other changes to consistently describe the post-accident monitoring system (PAMS) “PRHR Outlet Temperature” and “PRHR HX Outlet Temperature” variables to be consistent with the description provided in UFSAR Table 7.5-1. Additionally, a change is proposed to remove duplicate Tier 2 information from a document that is incorporated by reference (IBR) into the UFSAR.

The proposed changes to the post-accident monitoring system (PAMS) PRHR heat removal function, including changes to the classification of the PRHR HX outlet temperature variable, and the Minimum Inventory Tables for PRHR HX Valve Status do not constitute a modification, addition to, or removal of a structure, system, or component (SSC) such that a PXS or PAMS design function as described in the UFSAR is adversely affected. The instrumentation affected by this activity is not an initiator of an accident condition or of any accident analyzed in Chapter 15 of the UFSAR. The changes do not involve an interface with any SSC accident initiator or initiating sequence of events, and thus, the probabilities of the accidents evaluated in the UFSAR are not affected. The proposed changes do not involve a change to any mitigation sequence or the predicted radiological releases due to postulated accident conditions, thus, the consequences of the accidents evaluated in the UFSAR are not affected. The deletion of IBR information from the UFSAR is an administrative change that removes unnecessary duplicate information from the licensing basis.

Therefore, the proposed amendment does not involve a significant increase in the probability or consequences of an accident previously evaluated.

2. Does the proposed amendment create the possibility of a new or different kind of accident from any accident previously evaluated?

Response: No.

The proposed change will continue to maintain required functional capability of the safety systems for previously evaluated accidents, including those involving a loss of the normal core decay heat removal path. The instrumentation affected by this activity is not an initiator of an accident condition or of any accident analyzed in Chapter 15 of the UFSAR. The changes do not involve an interface with any SSC accident initiator or initiating sequence of events, and thus, the probabilities of the accidents evaluated in the UFSAR are not affected. The changes do not introduce a new interface with any SSC accident initiator or initiating sequence of events, and thus, the possibility of a new accident is not created. The proposed changes do not change the function of the related systems, and thus, the changes do not introduce a new failure mode, malfunction or sequence of events that could adversely affect safety or safety-related equipment.

Therefore, the proposed amendment does not create the possibility of a new or different kind of accident from any accident previously evaluated.

3. Does the proposed amendment involve a significant reduction in a margin of safety?

Response: No.

The proposed changes to the PAMS PRHR heat removal function and Minimum Inventory Tables for PRHR HX Valve Status continue to comply with the applicable design criteria addressing instrumentation and controls, protection system functions, and protection system independence. The addition of these variables under the same type/category as the current PRHR outlet temperature variable will ensure the heat sink maintenance function will be satisfied. The proposed changes do not change the function of the related systems or affect the margins provided by the systems, and thus, the changes do not affect any safety-related design code, function, design analysis, safety analysis input or result, or existing design/safety margin. No safety analysis or design basis acceptance limit/criterion is challenged or exceeded by the requested changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Jennifer Dixon-Herrity.

Southern Nuclear Operating Company, Inc., Docket Nos. 50-348 and 50-364, Joseph M. Farley Nuclear Plant, Units 1 and 2, Houston County, Alabama,

Date of amendment request: December 14, 2018. A publicly-available version is in ADAMS under Accession No. ML18348A733.

Description of amendment request: The proposed amendments would modify the plant operating licenses to allow, as a performance-based method, use of thermal insulation materials in limited applications subject to appropriate engineering reviews and controls, as a deviation from National Fire Protection Association (NFPA) Standard 805 Chapter 3, Section 3.3, Prevention.

Basis for proposed no significant hazards consideration determination: As required by 10 CFR 50.91(a), the licensee has provided its analysis of the issue of no significant hazards consideration, which is presented below:

1. Does the proposed change involve a significant increase in the probability or consequences of an accident previously evaluated?

Response: No.

The proposed change does not affect accident initiators or precursors, nor alter the design assumptions, conditions and configuration of the facility or the manner in which the plant is operated and maintained.

The proposed change is administrative in nature and does not affect the ability of structures, systems and components (SSCs) to perform their intended safety function to mitigate the consequences of an initiating event within the assumed acceptance limits.

The proposed amendment does not involve a physical change to the containment or spent fuel area systems, nor does it change the safety function of the containment, containment purge and exhaust ventilation system, penetration room filtration system, or associated instrumentation.

Therefore, it is concluded that these proposed changes do not involve a significant increase in the probability of consequences of an accident previously evaluated.

2. Does the proposed amendment create the possibility of a new or different kind of accident from any accident previously evaluated?

Response: No.

There is no risk impact to Core Damage Frequency (CDF) or Large Early Release Frequency (LERF) because this is an administrative change. Plant secondary combustibles, including insulating materials, are considered in the fire modeling input to the Fire PRA [Probabilistic Risk Assessment].

With respect to a new or different kind of accident, there are no proposed design changes to the safety related plant SSCs nor are there any changes in the method by which safety related plant SSCs perform their safety functions. The proposed change does not result in any new or different kinds of accidents from those previously evaluated because it does not change any precursors or equipment that is previously credited for accident mitigation.

The proposed amendment will not affect the normal method of plant operation or revise any operating parameters. No new accident scenarios, transient precursors, failure mechanisms, or limiting single failures will be introduced as a result of this proposed change and the failure modes and effects analyses of SSCs important to safety are not altered as a result of this proposed change. The proposed amendment does not alter the design or performance of the related SSCs, and, therefore, does not constitute a new type of test.

No changes are being proposed to the procedures that operate the plant equipment and the change does not have a detrimental impact on the manner in which plant equipment operates or responds to an actuation signal.

Therefore, the proposed change will not create the possibility of a new or different accident than previously evaluated.

3. Does the proposed change involve a significant reduction in a margin of safety?

Response: No.

The margin of safety is related to the ability of the fission product barriers to perform their design functions during and following an accident. These barriers include the fuel cladding, the reactor coolant system, and the containment.

Instrumentation safety margin is established by ensuring the limiting safety system settings (LSSSs) automatically actuate the applicable design function to correct an abnormal situation before a safety limit is exceeded. Safety analysis limits are established for reactor trip system and ESF [engineered safety feature] actuation system instrumentation functions related to those variables having significant safety functions. The proposed change does not alter the design of these protection systems; nor are there any changes in the method by which safety related plant SSCs perform their specified safety functions.

The limited installations of the insulation materials do not compromise post-fire safe shutdown capability as previously designed, reviewed and considered. Essential fire protection safety functions are maintained and are capable of being performed. Because the insulation materials do not compromise post-fire safe shutdown capability as previously designed, reviewed and considered, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Millicent Ronnlund, Vice President and General Counsel, Southern Nuclear Operating Company, Inc., P.O. Box 1295, Bin 038, Birmingham, AL 35201-1295.

NRC Branch Chief: Michael T. Markley.

Tennessee Valley Authority, Docket Nos. 50-390 and 50-391, Watts Bar Nuclear Plant, Units 1 and 2, Rhea County, Tennessee

Date of amendment request: August 1, 2018. A publicly-available version is in ADAMS under Accession No. ML18213A120.

Description of amendment request: The amendments would revise the Technical Specifications (TSs) to adopt, with minor administrative variation, Technical Specification Task Force (TSTF) Traveler 266-A, Revision 3, “Eliminate the Remote Shutdown System Table of Instrumentation and Controls.” TSTF-266-A relocates TS Table 3.3.4-1, “Remote Shutdown System Instrumentation and Controls,” to the TS Bases, where changes can be administered under the provisions of TS 5.6, “TS Bases Control Program.”

Basis for proposed no significant hazards consideration determination: As required by 10 CFR 50.91(a), the licensee has provided its analysis of the issue of no significant hazards consideration, which is presented below:

1. Does the proposed amendment involve a significant increase in the probability or consequence of an accident previously evaluated?

Response: No.

The proposed change removes the list of Remote Shutdown System (RSS) instrumentation and controls from the TS and places them in the TS Bases. The TS continue to require that the instrumentation and controls be operable. The location of the list of Remote Shutdown System instrumentation and controls is not an initiator to any accident previously evaluated. The proposed change will have no effect on the mitigation of any accident previously evaluated because the instrumentation and controls continue to be required to be operable.

Therefore, the proposed change does not involve a significant increase in the probability or consequences of any accident previously evaluated.

2. Does the proposed amendment create the possibility of a new or different kind of accident from any accident previously evaluated?

Response: No.

The proposed change does not involve a physical alteration to the plant (i.e., no new or different type of equipment will be installed) or a change to the methods governing normal plant operation. The changes do not alter the assumptions made in the safety analysis.

Therefore, the proposed change does not create the possibility of a new or different kind of accident from any accident previously evaluated.

3. Does the proposed amendment involve a significant reduction in a margin of safety?

Response: No.

The proposed change removes the list of RSS instrumentation and controls from the TS and places it in the TS Bases. The review performed by the Nuclear Regulatory Commission when the list of RSS instrumentation and controls is revised will no longer be needed unless the criteria of 10 CFR 50.59 are not met such that prior Nuclear Regulatory Commission (NRC) review is required. The TS requirement that the RSS be operable, the definition of operability, the requirements of 10 CFR 50.59, and the TS Bases Control Program are sufficient to ensure that revision of the list without prior NRC review and approval does not introduce a significant safety risk.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-369 and 50-370, McGuire Nuclear Station, Units 1 and 2, Mecklenburg County, North Carolina

Date of amendment request: February 26, 2018, as supplemented by letter dated September 13, 2018.

Brief description of amendments: The amendments modified Technical Specification (TS) 3.4.11, “Pressurizer Power Operated Relief Valves (PORVs),” to resolve non-conservative Required Actions. TS 3.4.11, Condition B, for one or two PORVs inoperable and not capable of being manually cycled is revised and split into three separate Conditions: (1) One Train B PORV inoperable and not capable of being manually cycled, (2) one Train A PORV inoperable and not capable of being manually cycled, and (3) two Train B PORVs inoperable and not capable of being manually cycled. TS 3.4.11, Condition C, for one block valve inoperable is revised and split into two separate Conditions: (1) One Train B block valve inoperable and (2) one Train A block valve inoperable. TS 3.4.11, Condition F for two block valves inoperable is revised to be new Condition I for two Train B block valves inoperable. A new condition, Condition J, is added for one Train B PORV and the other Train B block valve inoperable. Current Condition G for three block valves inoperable is revised to be new Condition K. Current Condition D is revised and renamed as Condition E, current Condition E is revised and renamed as Condition F, and current Condition H is revised and renamed as new Condition L. The Surveillance Requirement (SR) 3.4.11.1 note is revised to include additional Conditions C and D, when performing this SR is not required for inoperable block valves in these conditions.

Date of issuance: January 16, 2019.

Effective date: These amendments are effective as of the date of issuance and shall be implemented within 60 days of issuance.

Amendment Nos.: 311 (Unit 1) and 290 (Unit 2). A publicly-available version is in ADAMS under Accession No. ML18318A358; documents related to these amendments are listed in the Safety Evaluation enclosed with the amendments.

Renewed Facility Operating License Nos. NPF-9 and NPF-17: The amendments revised the Renewed Facility Operating Licenses and TSs.

Date of initial notice in Federal Register: July 31, 2018 (83 FR 36974). The supplemental letter dated September 13, 2018, provided additional information that clarified the application, did not expand the scope of the application as originally noticed, and did not change the staff's original proposed no significant hazards consideration determination as published in the Federal Register.

The Commission's related evaluation of the amendments is contained in a Safety Evaluation dated January 16, 2019.

No significant hazards consideration comments received: No.

Duke Energy Carolinas, LLC, Docket Nos. 50-369 and 50-370, McGuire Nuclear Station, Units 1 and 2, Mecklenburg County, North Carolina

Date of amendment request: December 8, 2017, as supplemented by letters dated July 3 and November 1, 2018.

Brief description of amendments: The amendments modified McGuire Nuclear Station's, Units 1 and 2, Updated Final Safety Analysis Report (UFSAR) to describe the methodology and results of the analyses performed to evaluate the protection of the plant's structures, systems, and components from tornado-generated missiles.

Date of issuance: January 25, 2019.

Effective date: These license amendments are effective as of its date of issuance and shall be implemented within 120 days of issuance.

Amendment Nos.: 312 (Unit 1) and 291 (Unit 2). A publicly-available version is in ADAMS under Accession No. ML18355A610; documents related to these amendments are listed in the Safety Evaluation enclosed with the amendments.

Renewed Facility Operating License Nos. NPF-9 and NPF-17: Amendments revised the UFSAR.

Date of initial notice in Federal Register: June 5, 2018 (83 FR 26100). The supplemental letters dated July 3 and November 1, 2018, provided additional information that clarified the application, did not expand the scope of the application as originally noticed, and did not change the staff's original proposed no significant hazards consideration determination as published in the Federal Register.

No significant hazards consideration comments received: Yes. One comment from a member of the public was received; however, it was not related to the proposed no significant hazards consideration determination or to the proposed license amendment request.

The Commission's related evaluation of the amendments is contained in a Safety Evaluation dated January 25, 2019.

Entergy Louisiana, LLC, and Entergy Operations, Inc., Docket No. 50-458, River Bend Station, Unit 1 (River Bend), West Feliciana Parish, Louisiana

Date of amendment request: April 2, 2018, as supplemented by letter dated October 4, 2018.

Brief description of amendment: The amendment revised the River Bend Technical Specification Figure 3.4.11-1, “Minimum Temperature Required vs. RCS [Reactor Coolant System] Pressure,” for reactor heatup, cooldown, and critical operations as well as for inservice leak tests and hydrostatic tests. The change also replaced the non-conservative curve, which is for 32 Effective Full Power Years (EFPY), with a new curve that is for 54 EFPY.

Date of issuance: January 17, 2019.

Effective date: As of the date of issuance and shall be implemented 30 days from the date of issuance.

Amendment No.: 195. A publicly-available version is in ADAMS under Accession No. ML18360A025; documents related to this amendment are listed in the Safety Evaluation enclosed with the amendment.

Renewed Facility Operating License No. NPF-47: The amendment revised the Renewed Facility Operating License and Technical Specifications.

Date of initial notice in Federal Register: June 5, 2018 (83 FR 26115). The supplemental letter dated October 4, 2018, provided additional information that clarified the application, did not expand the scope of the application as originally noticed, and did not change the NRC staff's original proposed no significant hazards consideration determination as published in the Federal Register.

The Commission's related evaluation of the amendment is contained in a Safety Evaluation dated January 17, 2019.

No significant hazards consideration comments received: No.

Entergy Operations, Inc., Docket Nos. 50-313 and 50-368, Arkansas Nuclear One (ANO), Units 1 and 2, Pope County, Arkansas

Date of amendment request: March 29, 2018, as supplemented by letter dated September 17, 2018.

Brief description of amendment: The amendments revised the ANO Emergency Plan by changing the emergency action level scheme to one based on the Nuclear Energy Institute's (NEI's) guidance in NEI 99-01, Revision 6, “Development of Emergency Action Levels for Non-Passive Reactors,” dated November 2012, which was endorsed by the NRC by letter dated March 28, 2013.

Date of issuance: January 17, 2019.

Effective date: As of the date of issuance and shall be implemented on or before October 30, 2019.

Amendment Nos.: Unit 1—263; Unit 2—314. A publicly-available version is in ADAMS under Accession No. ML18337A247; documents related to these amendments are listed in the Safety Evaluation enclosed with the amendments.

Renewed Facility Operating License Nos. DPR-51 and NPF-6: The amendments revised the ANO Emergency Plan.

Date of initial notice in Federal Register: May 22, 2018 (83 FR 23733). The supplemental letter dated September 17, 2018, provided additional information that clarified the application, did not expand the scope of the application as originally noticed, and did not change the NRC staff's original proposed no significant hazards consideration determination as published in the Federal Register.

The Commission's related evaluation of the amendments is contained in a Safety Evaluation dated January 17, 2019.

No significant hazards consideration comments received: No.

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC and Exelon FitzPatrick, LLC, Docket No. 50-333, James A. FitzPatrick Nuclear Power Plant, Oswego County, New York

Exelon Generation Company, LLC, Docket Nos. 50-373 and 50-374, LaSalle County Station, Units 1 and 2, LaSalle County, Illinois

Exelon Generation Company, LLC, Docket Nos. 50-352 and No. 50-353, Limerick Generating Station, Units 1 and 2, Montgomery County, Pennsylvania

Exelon Generation Company, LLC, Docket Nos. 50-220 and 50-410, Nine Mile Point Nuclear Station, Units 1 and 2, Oswego County, New York

Exelon Generation Company, LLC, and PSEG Nuclear LLC, Docket Nos. 50-277 and 50-278, Peach Bottom Atomic Power Station, Units 2 and 3, York and Lancaster Counties, Pennsylvania

Exelon Generation Company, LLC, Docket Nos. 50-254 and 50-265, Quad Cities Nuclear Power Station, Units 1 and 2, Rock Island County, Illinois

Date of amendment request: June 15, 2018.

Brief description of amendments: The amendments revised the technical specification requirements associated with the average power range monitors.

Date of issuance: January 16, 2019.

Effective date: As of the date of issuance and shall be implemented within 150 days from the date of issuance.

Amendment Nos.: Clinton Unit 1 (222); Dresden Units 1 (260) and 2 (253); FitzPatrick (324); LaSalle Units 1 (234) and 2 (220); Limerick Units 1 (233) and 2 (196); Nine Mile Point Units 1 (235) and 2 (175); Peach Bottom Units 1 (322) and 2 (325); and Quad Cities Units 1 (272) and 2 (267). A publicly-available version is in ADAMS under Accession No. ML18304A365; documents related to these amendments are listed in the Safety Evaluation enclosed with the amendments.

Facility Operating License Nos. NPF-62, DPR-19, DPR-25, DPR-59, NPF-11, NPF-18, NPF-39, NPF-85, DPR-63, NPF-69, DPR-44, DPR-56, DPR-29, and DPR-30: Amendments revised the Facility Operating Licenses and Technical Specifications.

Date of initial notice in Federal Register: August 14, 2018 (83 FR 40348).

The Commission's related evaluation of the amendments is contained in a safety evaluation dated January 16, 2019.

No significant hazards consideration comments received: No.

Exelon Generation Company, LLC, Docket Nos. 50-254 and 50-265, Quad Cities Nuclear Power Station, Units 1 and 2, Rock Island County, Illinois

Date of amendment request: February 26, 2018, as supplemented by letter dated September 27, 2018.

Brief description of amendments: The amendments added, deleted, modified, and replaced numerous technical specification requirements related to operations with a potential for draining the reactor vessel with new requirements for reactor pressure vessel water inventory control to protect Safety Limit 2.1.1.3.

Date of issuance: January 28, 2019.

Effective date: As of the date of issuance and shall be implemented prior to initial entry into Mode 4 for Quad Cities Nuclear Power Station, Unit 1 refueling outage, Q1R25.

Amendment Nos.: Unit 1—273; Unit 2—268. A publicly-available version is in ADAMS under Accession No. ML18353A229; documents related to these amendments are listed in the Safety Evaluation enclosed with the amendments.

Renewed Facility Operating License Nos. DPR-29 and DPR-30: Amendments revised the Technical Specifications and Licenses.

Date of initial notice in Federal Register: April 24, 2018 (83 FR 17861). The supplemental letter dated September 27, 2018, provided additional information that clarified the application, did not expand the scope of the application as originally noticed, and did not change the staff's original proposed no significant hazards consideration determination as published in the Federal Register.

The Commission's related evaluation of the amendments is contained in a Safety Evaluation dated January 28, 2019.

No significant hazards consideration comments received: No.

Exelon Generation Company, LLC, Docket No. 50-220, Nine Mile Point Nuclear Station (Nine Mile Point), Unit 1, Oswego County, New York

Date of amendment request: December 15, 2017, as supplemented by letters dated October 1 and November 2, 2018.

Brief description of amendment: The amendment revised the Nine Mile Point, Unit 1, Technical Specifications by replacing requirements related to “operations with a potential for draining the reactor vessel” with new requirements on reactor pressure vessel water inventory control. The changes are based on Technical Specifications Task Force Improved Standard Technical Specifications Change Traveler TSTF-542, Revision 2, “Reactor Pressure Vessel Water Inventory Control” (ADAMS Accession No. ML16074A448).

Date of issuance: January 22, 2019.

Effective date: As of the date of issuance and shall be implemented no later than the start of the Nine Mile Point, Unit 1, Spring 2019 refueling outage.

Amendment No.: 236. A publicly-available version is in ADAMS under Accession No. ML19008A454; documents related to this amendment are listed in the Safety Evaluation enclosed with the amendment.

Renewed Facility Operating License No. DPR-63: The amendment revised the Renewed Facility Operating License and Technical Specifications.

Date of initial notice in Federal Register: February 13, 2018 (83 FR 6224). The supplemental letters dated October 1 and November 2, 2018, provided additional information that clarified the application, did not expand the scope of the application as originally noticed, and did not change the NRC staff's original proposed no significant hazards consideration determination as published in the Federal Register.

The Commission's related evaluation of the amendment is contained in a Safety Evaluation dated January 22, 2019.

No significant hazards consideration comments received: No.

Exelon Generation Company, LLC, Docket Nos. 50-317 and 50-318, Calvert Cliffs Nuclear Power Plant, Units 1 and 2 (Calvert Cliffs), Calvert County, Maryland

Date of amendment request: August 23, 2018, as supplemented by letters dated November 12 and November 30, 2018.

Brief description of amendments: The amendments revised the Calvert Cliffs Technical Specifications to permit one-time extensions to the completion times for a required action in Technical Specification 3.8.1, “AC [Alternating Current] Sources−Operating.” The one-time extension up to 14 days would apply to Required Action D.3.

Date of issuance: January 22, 2019.

Effective date: As of the date of issuance and shall be implemented within 60 days of issuance.

Amendment Nos.: 328 (Unit 1) and 306 (Unit 2). A publicly-available version is in ADAMS under Accession No. ML18365A373; documents related to these amendments are listed in the Safety Evaluation enclosed with the amendments.

Renewed Facility Operating License Nos. DPR-53 and DPR-69: The amendments revised the Renewed Facility Operating Licenses and Technical Specifications.

Date of initial notice in Federal Register: October 23, 2018 (83 FR 53513). The supplemental letters dated November 12 and November 30, 2018, provided additional information that clarified the application, did not expand the scope of the application as originally noticed, and did not change the staff's original proposed no significant hazards consideration determination as published in the Federal Register. The letter dated November 30, 2018, reduced the scope of the application.

The Commission's related evaluation of the amendments is contained in a safety evaluation dated January 22, 2019.

No significant hazards consideration comments received: No.

Northern States Power Company—Minnesota, Docket No. 50-263, Monticello Nuclear Generating Plant (MNGP), Wright County, Minnesota

Date of amendment request: December 19, 2017, as supplemented by letters dated April 24, October 23, and November 20, 2018.

Brief description of amendment: The amendment revised the MNGP technical specification to adopt Technical Specification Task Force (TSTF) Travel 425, “Relocate Surveillance Frequencies to Licensee Control—RITSTF Initiative 5B.”

Date of issuance: January 28, 2019.

Effective date: As of the date of issuance and shall be implemented prior to the next refueling outage.

Amendment No.: 200. A publicly-available version is in ADAMS under Accession No. ML19007A090; documents related to this amendment are listed in the Safety Evaluation enclosed with the amendment.

Renewed Facility Operating License No. DPR-22. Amendment revised the Renewed Facility Operating License and Technical Specifications.

Date of initial notice in Federal Register: February 27, 2018 (83 FR 8518). The supplemental letters dated April 24, 2018, October 23, 2018 and November 20, 2018, provided additional information that clarified the application, did not expand the scope of the application as originally noticed, and did not change the staff's original proposed no significant hazards consideration determination as published in the Federal Register.

The Commission's related evaluation of the amendment is contained in a Safety Evaluation dated January 28, 2019.

No significant hazards consideration comments received: No.

PSEG Nuclear LLC and Exelon Generation Company, LLC, Docket Nos. 50-272 and 50-311, Salem Nuclear Generating Station, Unit Nos. 1 and 2, Salem County, New Jersey

Date of amendment request: May 16, 2018, as supplemented by letters dated June 14, 2018; October 18, 2018; October 20, 2018; and October 30, 2018.

Brief description of amendments: The amendments revised Technical Specification 3.8.2.1, “A.C. [Alternating Current] Distribution—Operating,” to increase the vital instrument bus inverters allowed outage time from 24 hours for the A, B, and C inverters to 7 days, and from 72 hours for the D inverter to 7 days. The extended allowed outage time is based on application of the Salem Nuclear Generating Station probabilistic risk assessment in support of a risk-informed extension, and on additional considerations and compensatory actions.

Date of issuance: January 25, 2019.

Effective date: As of the date of issuance and shall be implemented within 60 days from the date of issuance.

Amendment Nos.: 326 (Unit No. 1) and 307 (Unit No. 2). A publicly-available version is in ADAMS under Accession No. ML19009A477; documents related to these amendments are listed in the Safety Evaluation enclosed with the amendments.

Renewed Facility Operating License Nos. DPR-70 and DPR-75: The amendments revised the Renewed Facility Operating Licenses and Technical Specifications.

Date of initial notice in Federal Register: July 3, 2018 (83 FR 31186). The supplemental letters dated June 14, October 18, October 20, and October 30, 2018, provided additional information that clarified the application, did not expand the scope of the application as originally noticed, and did not change the NRC staff's original proposed no significant hazards consideration determination as published in the Federal Register.

The Commission's related evaluation of the amendments is contained in a Safety Evaluation dated January 25, 2019.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: March 9, 2018. A publicly-available version is in ADAMS under Accession No. ML18071A363.

Brief description of amendments: The amendments revised the Unit No. 1 and Unit No. 2 Technical Specifications (TS) requirements of TS 3.3.8.1, “Loss of Power (LOP) Instrumentation,” by modifying the instrument allowable values for the 4.16 kilovolt (kV) emergency bus degraded voltage instrumentation and by deleting the annunciation requirements for the 4.16 kV emergency bus undervoltage instrumentation for Unit No. 2. The amendment for Unit No. 2 also revises License Condition 2.C(3)(i) to clarify its intent.

Date of issuance: January 28, 2019.

Effective date: As of the date of issuance and shall be implemented within 60 days from the date of issuance.

Amendment Nos.: Unit 1—293, Unit 2—238. A publicly-available version is in ADAMS under Accession No. ML19010A009; documents related to these amendments are listed in the Safety Evaluation enclosed with the amendments.

Renewed Facility Operating License Nos. DPR-57 and NPF-5: Amendments revised the Renewed Facility Operating Licenses and Technical Specifications.

Date of initial notice in Federal Register: September 11, 2018 (83 FR 45987).

The Commission's related evaluation of the amendments is contained in a Safety Evaluation dated January 28, 2019.

No significant hazards consideration comments received: No.

Southern Nuclear Operating Company, Inc., Docket Nos. 50-424 and 50-425, Vogtle Electric Generating Plant (Vogtle), Units 1 and 2, Burke County, Georgia

Date of amendment request: October 11, 2017, as supplemented by letters dated July 26 and September 14, 2018.

Brief description of amendments: The amendments revised the Renewed Facility Operating Licenses to authorize revision of the Vogtle Units 1 and 2 Updated Final Safety Analysis Report to incorporate the process based on the Tornado Missile Risk Evaluator Methodology described in its application, as supplemented. This methodology will only be applied to discovered conditions where tornado missile protection is not currently provided, and cannot be used to avoid providing tornado missile protection in the plant modification process.

Date of issuance: January 11, 2019.

Effective date: As of the date of issuance and shall be implemented within 90 days of issuance.

Amendment Nos.: Vogtle Unit 1—198; Unit 2—181. A publicly-available version is in ADAMS under Accession No. ML18304A394; documents related to these amendments are listed in the Safety Evaluation enclosed with the amendments.

Renewed Facility Operating License Nos. NPF-68 and NPF-81: Amendments revised the Renewed Facility Operating Licenses.

Date of initial notice in Federal Register: March 27, 2018 (83 FR 13150). The supplemental letters dated July 26 and September 14, 2018, provided additional information that clarified the application, and taken together, did not expand the scope of the application as originally noticed and did not change the staff's original proposed no significant hazards consideration determination as published in the Federal Register.

The Commission's related evaluation of the amendment is contained in a Safety Evaluation dated January 11, 2019.

No significant hazards consideration comments received: No.

Dated at Rockville, Maryland, this 1st day of February, 2019.
For the Nuclear Regulatory Commission.
Kathryn M. Brock,
Deputy Director, Division of Operating Reactor Licensing, Office of Nuclear Reactor Regulation.

[FR Doc. 2019-01215 Filed 2-11-19; 8:45 am]

BILLING CODE 7590-01-P